COMMITTEE FOR PURCHASE FROM PEOPLE WHO ARE BLIND OR SEVERELY DISABLED

Procurement List; Proposed Additions and Deletion

AGENCY: Committee for Purchase From People Who Are Blind or Severely Disabled.

ACTION: Proposed Additions to and Deletions from Procurement List.

SUMMARY: The Committee is proposing to add to the Procurement List products and services to be furnished by nonprofit agencies employing persons who are blind or have other severe disabilities, and to delete a product previously furnished by such agencies.

Comments Must be Received on or Before: June 25, 2006.

ADDRESSES: Committee for Purchase From People Who Are Blind or Severely Disabled, Jefferson Plaza 2, Suite 10800, 1421 Jefferson Davis Highway, Arlington, Virginia, 22202-3259.

For Further Information or to Submit Comments Contact: Sheryl D. Kennerly, Telephone: (703) 603-7740, Fax: (703) 603-0655, or e-mail SKennerly@jwod.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

Product/NSNs: Kit, First Aid, Evasion & Escape,

6545-01-534-0894—Kit, First Aid, Evasion & Escape,

6545-01-534-0935—Survival Module,

6545-01-534-0925—Medical Module.

NPA: Friendship Industries, Inc., Harrisonburg, Virginia.

Contracting Activity: U.S. Air Force—AFMLO/USAF, Frederick, Maryland.

Product/NSNs: Targets.

6920-00-071-4780—25 Green Plastic.

6920-00-071-4589—50 Plastic.

NPA: North Central Sight Services, Inc., Williamsport, Pennsylvania.

Contracting Activity: Defense Supply Center Philadelphia, Philadelphia, Pennsylvania.

Services

Service Type/Location: Custodial Services, Stewart Air National Guard Base, 105th Airlift Wing/LGC, One Militia Way, Building 204, Newburgh, New York.

NPA: New Dynamics Corporation, Middletown, New York.

Contracting Activity: 105th Airlift Wing/LGC, Newburgh, New York.

Service Type/Location: Grounds Maintenance, Athletic Fields—Basewide, Patrick AFB, Florida.

NPA: Brevard Achievement Center, Inc., Rockledge, Florida.

Contracting Activity: 45th Contracting Squadron/LGCAA, Patrick AFB, Florida.

Service Type/Location: Laundry Service, 21st Medical Group, Medical Clinic, Peterson AFB, Colorado, Area Dental Laboratory (ADL), Peterson AFB, Colorado, Schriever Troop Clinic, Schriever AFB, Colorado.

NPA: Goodwill Industrial Services Corporation, Colorado Springs, Colorado.

Contracting Activity: Headquarters, Air Force Space Command, Peterson AFB, Colorado.

Service Type/Location: Laundry Service, Armed Forces Retirement Home—Washington (AFRH-W), 3700 North Capitol Street, NW., Washington, DC.

NPA: Rappahannock Goodwill Industries, Inc., Fredericksburg, Virginia.

Contracting Activity: Bureau of Public Debt, Parkersburg, West Virginia.

Service Type/Location: Pest Control, Healthy Beginnings Child Development Center, 5610 Fishers Lane, Rockville, Maryland. Parklawn Building, 5600 Fishers Lane, Rockville, Maryland.

NPA: Davis Memorial Goodwill Industries, Washington, DC.

Contracting Activity: Department of Health and Human Services, Rockville, Maryland.

Deletion

Regulatory Flexibility Act Certification

I certify that the following action will not have a significant impact on a substantial number of small entities. The major factors considered for this certification were:

1. If approved, the action may result in additional reporting, recordkeeping or other compliance requirements for small entities.

2. If approved, the action may result in authorizing small entities to furnish the product to the Government.

3. There are no known regulatory alternatives which would accomplish the objectives of the Javits-Wagner-O'Day Act (41 U.S.C. 46-48c) in connection with the product proposed for deletion from the Procurement List.

End of Certification

The following product is proposed for deletion from the Procurement List:

Product

Product/NSNs: Accustamp,

7520-01-207-4213—OFFICIAL—Red.

NPA: The Arbor School, Houston, Texas.

Contracting Activity: Office Supplies & Paper Products Acquisition Center, New York, NY.

Sheryl D. Kennerly,
Director, Information Management.

[FR Doc. E6-8186 Filed 5-25-06; 8:45 am]

BILLING CODE 6353-01-P